DEPARTMENT OF COMMERCE

National Oceanic and Atmospheric Administration

Proposed Information Collection; Comment Request; Northwest Region Pacific Whiting Shoreside Fishery Monitoring and Catch Accounting Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before June 21, 2010.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Becky Renko, (206) 526-6110 or Becky.Renko@noaa.gov.

SUPPLEMENTARY INFORMATION:

I. Abstract

As part of its fishery management responsibilities, NOAA's National Marine Fisheries Service collects information to determine the amount and type of groundfish caught by fishing vessels. This collection supports exempted fishing permit requirements for Pacific whiting shoreside vessels to have and use electronic monitoring to verify full retention of catch and for Pacific whiting shoreside processors to send electronic catch data used to manage the catch allocations and limits. The respondents are principally groundfish fishermen and shoreside processors which are companies/partnerships. Other respondents include State fisheries agencies who seek an exempted fishing permit.

II. Method of Collection

Information is sent through electronic programs and e-mail.

III. Data

OMB Control Number: 0648-0563.

Form Number: None.

Type of Review: Regular submission.

Affected Public: Business or other for-profit organizations; State, local, or Tribal government; individuals or households.

Estimated Number of Respondents: 53.

Estimated Time per Response: Initial application and summary report, 10 hours each; inseason data report, 1 hour; electronic fish tickets, 10 minutes in Washington and California, 2 minutes in Oregon; electronic monitoring systems (EMS): installation, 6 hours; data downloads, 4 hours and EMS removal, 2 hours.

Estimated Total Annual Burden Hours: 613.

Estimated Total Annual Cost to Public: $240,000.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 15, 2010.
Gwellnar Banks,
Management Analyst, Office of the Chief Information Officer.

[FR Doc. 2010-9113 Filed 4-20-10; 8:45 am]

BILLING CODE 3510-22-P